DEPARTMENT OF HOMELAND SECURITY

U.S. Customs and Border Protection

Accreditation of R. Markey & Sons, Inc., Markan Laboratories, as a Commercial Laboratory

AGENCY: U.S. Customs and Border Protection, Department of Homeland Security.

ACTION: Notice of accreditation of R. Markey & Sons, Inc., Markan Laboratories, as a commercial laboratory.

SUMMARY: Notice is hereby given, pursuant to CBP regulations, that R. Markey & Sons, Inc., Markan Laboratories, has been accredited to test certain sugar products for customs purposes for the next three years as of June 23, 2015.

DATES: Effective Dates: The accreditation of R. Markey & Sons, Inc., Markan Laboratories, as commercial laboratory became effective on June 23, 2015. The next triennial inspection date will be scheduled for June 2018.

FOR FURTHER INFORMATION CONTACT: Approved Gauger and Accredited Laboratories Manager, Laboratories and Scientific Services Directorate, U.S. Customs and Border Protection, 1300 Pennsylvania Avenue NW., Suite 1500N, Washington, DC 20229, tel. 202-344-1060.

SUPPLEMENTARY INFORMATION: Notice is hereby given pursuant to 19 CFR 151.12, that R. Markey & Sons, Inc., Markan Laboratories, 5 Hanover Square, 12th Floor, New York, NY 10004, has been accredited to test certain sugar products for customs purposes, in accordance with the provisions of 19 CFR 151.12. R. Markey & Sons, Inc., Markan Laboratories, is accredited for the following laboratory analysis procedures and methods for sugar products set forth by the Commodity Group Brochures, the U.S. Customs and Border Protection Laboratory Methods (CBPL) and International Commission for Uniform Methods of Sugar Analysis (ICUMSA):

CBPL No. | ICUMSA | Title
17-01 | GS 1/2/3-1 | Polarisation of Raw Sugar.
17-02 | GS 2/3-1 | The Braunschweig Method for the Polarisation of White Sugar by Polarimetry.
17-07 | GS 2/1/3-15 | Sugar Moisture by Loss on Drying.
17-20 | GS 1/2/3-2 | The Determination of the Polarisation of Raw Sugar without Wet Lead Clarification.

Anyone wishing to employ this entity to conduct laboratory analyses should request and receive written assurances from the entity that it is accredited or approved by the U.S. Customs and Border Protection to conduct the specific test service requested. Alternatively, inquiries regarding the specific test service this entity is accredited to perform may be directed to the U.S. Customs and Border Protection by calling (202) 344-1060. The inquiry may also be sent to cbp.labhq@dhs.gov. Please reference the Web site listed below for a complete listing of CBP approved gaugers and accredited laboratories. http://www.cbp.gov/about/labs-scientific/commercial-gaugers-and-laboratories.

Dated: May 2, 2016.
Ira S. Reese,
Executive Director, Laboratories and Scientific Services Directorate.

[FR Doc. 2016-10974 Filed 5-9-16; 8:45 am]

BILLING CODE 9111-14-P